DEPARTMENT OF ENERGY

Federal Energy Regulatory Commission

[Docket Nos. CP13-113-000; PF12-16-000]

Dominion Cove Point LNG, LP; Notice of Application

Take notice that on April 1, 2013, Dominion Cove Point LNG, LP (Dominion Cove Point), 120 Tredegar Street, Richmond, Virginia, filed in Docket No. CP13-113-000 an application under section 3 of the Natural Gas Act (NGA) seeking authorization to construct, modify, own and operate certain facilities to enable the liquefaction of natural gas for the export at its existing Cove Point LNG terminal in Calvert County, Maryland. Additionally, pursuant to section 7 of the NGA, Dominion Cove Point seeks authority to construct, install, own, operate and maintain facilities on its Cove Point Pipeline at its existing compressor station and metering and regulating (M&R) site in Fairfax County, Virginia, and at its M&R site located in Loudon County, Virginia, for the transportation of natural gas for customers of Dominion Cove Point's LNG terminal, all as more fully set forth in the application which is on file with the Commission and open to public inspection. Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Questions regarding this application should be directed to Amanda K. Prestage, Regulatory and Certificates Analyst III, Dominion Transmission, Inc., 701 East Cary Street, Richmond, Virginia 23219, or by telephone at 804-771-4416, or email at Amanda.K.Prestage@dom.com.

On June 26, 2012, the Commission staff granted Dominion Cove Point's request to utilize the Pre-Filing Process and assigned Docket No. PF12-16 to staff activities involved with Dominion Cove Point's Liquefaction Project. Now, as of the filing of the application on April 1, 2013, the Pre-Filing Process for this project has ended. From this time forward, this proceeding will be conducted in Docket No. CP13-113-000, as noted in the caption of this Notice.

Pursuant to section 157.9 of the Commission's regulations, 18 CFR 157.9, within 90 days of this Notice, the Commission's staff will either complete its environmental assessment (EA) and place it into the Commission's public record (eLibrary) for this proceeding; or issue a Notice of Schedule for Environmental Review. If a Notice of Schedule for Environmental Review is issued, it will indicate, among other milestones, the anticipated date for the Commission's staff issuance of the EA for this proposal. The filing of the EA in the Commission's public record for this proceeding or the issuance of a Notice of Schedule for Environmental Review will serve to notify federal and state agencies of the timing for the completion of all necessary reviews, and the subsequent need to reach a final decision on a request for federal authorization within 90 days of the date of issuance of the Commission staff's EA.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the “e-Filing” link. Persons unable to file electronically should submit an original and 5 copies of the protest or intervention to the Federal Energy Regulatory Commission, 888 First Street NE., Washington, DC 20426.

Comment Date: 5:00 p.m. Eastern Time on May 3, 2013.

Dated: April 12, 2013.
Kimberly D. Bose,
Secretary.

[FR Doc. 2013-09261 Filed 4-18-13; 8:45 am]

BILLING CODE 6717-01-P